UNITED STATES POSTAL SERVICE BOARD OF GOVERNORS

Sunshine Act Meeting

Times and Dates: 1 p.m., Monday, March 31, 2003; 8:30 a.m., Tuesday, April 1, 2003.

Place: Washington, DC, at U.S. Postal Service Headquarters, 475 L'Enfant Plaza, SW., in the Benjamin Franklin Room.

Status: March 31—1 p.m. (Closed); April 1—8:30 a.m. (Open).

Matters to Be Considered:

Monday, March 31—1 p.m. (Closed)

1. Strategic Planning.

2. Amendment to Board of Governors Bylaws.

3. Financial Performance.

4. Rate Case Planning.

5. Capital Investment for Ventilation and Filtration System (VFS) for Mail Processing Equipment.

6. Unresolved Audit Recommendation.

7. Personal Matters and Compensation Issues.

Tuesday, April 1—8:30 a.m. (Open)

1. Minutes of the Previous Meeting, March 3-4, 2003.

2. Remarks of the Postmaster General and CEO.

3. Quarterly Report on Service Performance.

4. Quarterly Report on Financial Performance.

5. Fiscal Year 2003 Supplemental Appropriation Request for Emergency Preparedness Costs.

6. Capital Investments.

a. Self Service Platform.

b. Advanced Funding Request for the James A. Farley Processing and Distribution Center Sale Transition and Redevelopment.

7. Tentative Agenda for the May 5-6, 2003, meeting in Chicago, Illinois.

Contact Person for More Information: William T. Johnstone, Secretary of the Board, U.S. Postal Service, 475 L'Enfant Plaza, SW., Washington, DC 20260-1000. Telephone (202) 268-4800.

William T. Johnstone,
Secretary.

[FR Doc. 03-7257 Filed 3-21-03; 2:28 pm]

BILLING CODE 7710-12-M